DEPARTMENT OF COMMERCE

National Oceanic and Atmospheric Administration

RIN 0648-XC629

Fisheries in the Western Pacific; American Samoa Pelagic Longline Limited Entry Program

AGENCY: National Marine Fisheries Service (NMFS), National Oceanic and Atmospheric Administration (NOAA), Commerce.

ACTION: Notice; availability of permits.

SUMMARY: NMFS announces the availability of, and is soliciting applications for, American Samoa pelagic longline limited entry fishing permits. At least 12 permits in two size classes are available for 2013.

DATES: NMFS must receive completed permit applications by August 19, 2013.

ADDRESSES: Request a blank application form from the NMFS Pacific Islands Region (PIR), 1601 Kapiolani Blvd., Suite 1110, Honolulu, HI 96814-4733, or the PIR Web site www.fpir.noaa.gov. Mail completed applications and payment to NMFS PIR, ATTN: ASLE Permits, 1601 Kapiolani Blvd., Suite 1110, Honolulu, HI 96814-4733.

FOR FURTHER INFORMATION CONTACT: Walter Ikehara, Sustainable Fisheries, NMFS PIR, tel 808-944-2275, fax 808-973-2940, or email PIRO-permits@noaa.gov.

SUPPLEMENTARY INFORMATION: Federal regulations at 50 CFR 665.816 require NMFS to issue new permits for the American Samoa pelagic longline limited entry program if the number of permits in a size class falls below the maximum allowed. At least 12 permits are available for issuance, as follows: 11 in Class A (vessels less than or equal to 40 ft) and one in Class B (over 40 ft to 50 ft). Note that the number of available permits may change before the application period closes.

Complete applications must include the completed and signed application form, evidence of documented participation in the American Samoa pelagic longline fishery, and payment for the non-refundable application processing fee in accordance with the regulations at 50 CFR 665.13. Applicants must specify the permit class for which they are applying. NMFS will reject incomplete applications.

Documented participation means participation proved by, but not necessarily limited to, a properly submitted NMFS or American Samoa logbook, an American Samoa creel survey record, a delivery or payment record from an American Samoa-based cannery, retailer or wholesaler, an American Samoa tax record, an individual wage record, ownership title, vessel registration, or other official documents. The documents must show either ownership of a vessel that was used to fish in the EEZ around American Samoa, or evidence of work on a fishing trip during which longline gear was used to harvest western Pacific pelagic MUS in the EEZ around American Samoa.

If the applicant does not possess the necessary documentation of evidence of work on a fishing trip based on records available only from NMFS or the Government of American Samoa, the applicant may issue a request to NMFS to obtain such records from the appropriate agencies, if available. The applicant should provide sufficient information on the fishing trip to allow NMFS to retrieve the records. If the applicant requests NMFS in writing to use longline logbook data for evidence of documented participation, the applicant must specify the qualifying vessel, official number, and month(s) and year(s) of the logbook records for NMFS to search. An applicant's request that NMFS base its determination of documented participation on records currently held by NMFS constitutes acceptance that such records fairly and accurately describe the applicant's participation in the fishery.

If NMFS receives more complete applications than available permits for a given permit class, NMFS will prioritize applicants using only the information in the applications and documentation provided by the applicants.

NMFS will assign the highest priority for permits in any size class to applicants with the earliest documented participation in the fishery on a Class A vessel, followed by applicants with the earliest documented participation in Classes B, C, and D, in that order. If there is a tie in priority, NMFS will rank higher the applicant whose second documented participation in the fishery is earlier. Detailed criteria for prioritizing eligible applicants are in the regulations at 50 CFR 665.816(g).

NMFS (see ADDRESSES) must receive applications by August 19, 2013, and will not accept late applications. Authoritative additional information on the American Samoa limited entry program may be found in 50 CFR part 665.

Authority: 16 U.S.C. 1801 et seq.

Dated: April 15, 2013.
Kara Meckley,
Acting Deputy Director, Office of Sustainable Fisheries, National Marine Fisheries Service.

[FR Doc. 2013-09247 Filed 4-18-13; 8:45 am]

BILLING CODE 3510-22-P